NUCLEAR REGULATORY COMMISSION

[NRC-2009-0522; Docket No. 50-284; License No. R-110]

Idaho State University; Receipt of Request for Action Under 10 CFR 2.206

Notice is hereby given that by petition dated June 26, 2009, Dr. Kevan Crawford requested that the U.S. Nuclear Regulatory Commission (NRC) take the following enforcement actions:

(1) The reactor operating license should be suspended immediately. All continuing violations, including items that Dr. Crawford determined: (1) Were unresolved from the 93-1 Notice of Violation (NOV), (2) as well as the additional 20 violations ¹ that Dr. Crawford determined to be concealed must be reconciled with the regulatory requirements immediately.

¹ Page 9 from the June 26, 2009, petition letter to the Executive Director of Operations states 20 “Violations Completely Concealed by the NRC.”

(2) The licensee should be fined for all damages related to the violations and cover-up of violations.

(3) The licensee should be required to carry a 50-year $50,000,000 bond to cover latent radiation injuries instead of covering these injuries with unreliable State budget allocations for contingency funds.

(4) Every potential exposure and contamination victim should be identified through facility records, located, and informed of the potential risk to them and their families. The Medical Center in Pocatello, ID, should also be informed so that they may do the same. They should be informed of the entire range of expected symptoms. They should be informed of their right to seek compensation from the licensee.

(5) The following should warrant immediate revocation of the operating license due to the inability of the licensee to account for, with documentation, controlled by-product nuclear materials that were:

a. Released in clandestine, undocumented shipments before August 4, 1993,

b. In possession of individuals not licensed to hold the materials, and were not certified to handle the materials,

c. Without proper Title 49 Code of Federal Regulations (49 CFR) Department of Transportation (DOT) certified containers,

d. Without proper labeling for transport on public roads, and

e. Concealed via fraudulent Annual Operating Reports as defined in 18 USC 1001 that were never amended even after NOV in 93-1.

(6) It is recommended that the Broad Form License be permanently revoked.

(7) The licensee must publicly acknowledge that there was a loss of Special Nuclear Material (SNM) control.

(8) The licensee must publicly acknowledge persons that served as an accessory to concealing unlawful distribution of controlled substances, fraud (both Annual Operating Reports and National Whistleblower Center), loss of control of SNM, and child endangerment.

The request is being treated pursuant to Title 10 of the Code of Federal Regulations (10 CFR) 2.206 of the Commission's regulations. The request has been referred to the Director of the Office of Nuclear Reactor Regulation (NRR). The Petitioner participated in a conference call with the NRR Petition Review Board (PRB) on September 1, 2009, to discuss the petition. The additional information provided by the Petitioner was considered by the PRB before making its final recommendation.

By letter dated September 21, 2009, the Director accepted in part for review, pursuant to 10 CFR 2.206, the Petitioner's concerns regarding:

(1) Failure to conduct 10 CFR 50.59 safety review of the modification of the Controlled Access Area by the addition of an undocumented roof access for siphon breaker experiment implemented prior to 1991. The June 26, 2009, petition letter states this allowed random student access to the roof of the reactor room.

(2) Release of controlled by-product nuclear materials in containers not certified [10 CFR 49] for transport of such materials on public roads and not labeled with the required labeling.

(3) Failure to require the reactor operator conducting the startup procedures to wear protective clothing to routinely remove the activated startup channel detector from the reactor core. In the June 26, 2009, letter, Dr. Crawford states that this was cited and mishandled in the 93-1 NOV.

(4) Violation of 10 CFR 20 for the routine, unprotected handling of an unshielded neutron source.

The issues that were not accepted into the 2.206 petition process did not satisfy the criteria as specified in NRC Management Directive (MD) 8.11, “Review Process for 10 CFR 2.206 Petitions.” In such instances: (1) The incoming correspondence does not ask for an enforcement-related action or fails to provide sufficient facts to support the petition, but simply alleges wrongdoing, violations of NRC regulations, or existence of safety concerns and/or, (2) The petitioner raises issues that have already been the subject of NRC staff review and evaluation, either on that facility, other similar facilities, or on a generic basis, for which a resolution has been achieved, the issues have been resolved, and the resolution is applicable to the facility in question.

On September 28, 2009, the petitioner was contacted via telephone and was provided the initial recommendations of the PRB. Pursuant to NRC MD 8.11, the petitioner was offered the opportunity to comment on the recommendations and to “provide any relevant additional explanation and support for the request in light of the PRB's recommendations.” Through subsequent e-mail communication, the petitioner declined the opportunity for response to the recommendations of the PRB and to provide further information to support the petition request (Agencywide Documents Access and Management Systems (ADAMS) Accession Nos. ML092720460 and ML092720824).

As provided by Section 2.206, appropriate action will be taken on this petition within a reasonable time. A copy of the petition and addenda can be located at ADAMS Accession Nos. ML092440721 and ML092650381 (respectively), and are available for inspection at the Commission's Public Document Room, located at One White Flint North, 11555 Rockville Pike (first floor), Rockville, Maryland.

Dated at Rockville, MD, this 19th day of November 2009.
For the Nuclear Regulatory Commission.
Eric J. Leeds,
Director, Office of Nuclear Reactor Regulation.

[FR Doc. E9-28658 Filed 11-30-09; 8:45 am]

BILLING CODE 7590-01-P